NUCLEAR REGULATORY COMMISSION

10 CFR Part 73

[Docket No. PRM-73-11; NRC-2001-0023]

Petition for Rulemaking Filed by Scott Portzline, Three Mile Island Alert; Consider Petition in the Rulemaking Process

AGENCY: Nuclear Regulatory Commission.

ACTION: Resolution and closure of petition docket.

SUMMARY: The Nuclear Regulatory Commission (NRC) is considering the issues raised in a petition for rulemaking submitted by Scott Portzline, on behalf of the Three Mile Island Alert, in the ongoing “Power Reactor Security Requirements” rulemaking. The petitioner requested that the NRC regulations governing physical protection of plants and materials be amended to require NRC licensees to post at least one armed guard at each entrance to the “owner controlled areas” (OCAs) surrounding all U.S. nuclear power plants. The petitioner stated that this should be accomplished by adding armed site protection officers (SPOs) to the security forces—not by simply moving SPOs from their protected area (PA) posts to the OCA entrances. The petitioner believes that its proposed amendment would provide an additional layer of security that would complement existing measures against radiological sabotage and would be consistent with the long-standing principle of defense-in-depth.

DATES: The docket for the petition for rulemaking PRM-73-11 is closed on July 29, 2008.

ADDRESSES: You can access publicly available documents related to this petition for rulemaking using the following methods:

Federal e-Rulemaking Portal: Further NRC action on the issues raised by this petition will be accessible at the federal rulemaking portal, http://www.regulations.gov, by searching on rulemaking docket ID: NRC-2006-0016 and docket ID: NRC-2008-0019. The NRC also tracks all rulemaking actions in the “NRC Regulatory Agenda: Semiannual Report (NUREG-0936).”

NRC's Public Document Room (PDR): The public may examine and have copied for a fee, publicly available documents at the NRC's PDR, Public File Area O-1F21, One White Flint North, 11555 Rockville Pike, Rockville, Maryland.

NRC's Agencywide Document Access and Management System (ADAMS): Publicly available documents created or received at the NRC are available electronically at the NRC's Electronic Reading Room at http://www.nrc.gov/NRC/reading-rm/adams.html. From this page, the public can gain entry into ADAMS, which provides text and image files of NRC's public documents. If you do not have access to ADAMS or if there are any problems in accessing the documents located in ADAMS, contact the NRC PDR Reference staff at 1-800-397-4209, 301-415-4737 or by e-mail to PDR.resource@nrc.gov.

FOR FURTHER INFORMATION CONTACT: Lauren Quinones, Office of Nuclear Reactor Regulation, U.S. Nuclear Regulatory Commission, Washington, DC 20555-0001, Telephone: 301-415-2007, or toll-free: 800-368-5642, e-mail: Lauren.Quinones@nrc.gov.

SUPPLEMENTARY INFORMATION: On November 2, 2001 (66 FR 55603), the Nuclear Regulatory Commission (NRC) published for public comment a petition for rulemaking (PRM) filed by Scott Portzline, Three Mile Island Alert. The comment period closed on January 16, 2002. Eleven comments were received.

In a Federal Register notice published January 5, 2007 (72 FR 481), the NRC informed the public that PRM-73-11 and the public comments received on the petition would be considered in the proposed rulemaking, “Power Reactor Security Requirements,” published in the Federal Register on October 26, 2006 (71 FR 62664). That rulemaking did consider the topics of PRM-73-13 and proposed extensive revisions to the NRC regulations in 10 CFR Parts 50, 72, and 73 that address security requirements for nuclear power reactor licensees. The comment period on that proposed rule expired on March 26, 2007.

Dated at Rockville, Maryland, this 1st day of July 2008.
For the Nuclear Regulatory Commission.
R.W. Borchardt,
Executive Director for Operations.

[FR Doc. E8-17319 Filed 7-28-08; 8:45 am]

BILLING CODE 7590-01-P